DEPARTMENT OF THE INTERIOR

National Park Service

[NPS-WASO-NRNHL-14009; PPWOCRADI0, PCU00RP14.R50000]

National Register of Historic Places; Notification of Pending Nominations and Related Actions

Nominations for the following properties being considered for listing or related actions in the National Register were received by the National Park Service before August 31, 2013. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by October 8, 2013. Before including your address, phone number, email address, or other personal identifying information in your comment, you should be aware that your entire comment—including your personal identifying information—may be made publicly available at any time. While you can ask us in your comment to withhold your personal identifying information from public review, we cannot guarantee that we will be able to do so.

Dated: September 6, 2013.
J. Paul Loether,
Chief, National Register of Historic Places/National Historic Landmarks Program.

COLORADO

Boulder County

Weiser, Martha, House, 4020 N. 75th St., Boulder, 13000825

GEORGIA

Chatham County

Dayton Arms Apartments, 102 E. Liberty St., Savannah, 13000826

ILLINOIS

Cook County

Curtiss—Wright Aeronautical University Building, 1338-1342 S. Michigan Ave., Chicago, 13000827

Kosciuszko Park Field House, (Chicago Park District MPS), 2732 N. Avers Ave., Chicago, 13000830

IOWA

Benton County

Belle Plaine Main Street Historic District, Roughly bounded by 7th & 9th Aves., 11th & 13th Sts., Belle Plaine, 13000828

Polk County

Des Moines Building, (Architectural Legacy of Proudfoot & Bird in Iowa MPS), 405 6th Ave., Des Moines, 13000829

Pottawattamie County

Bregant, Jean and Inez, House, 514 S. 4th St., Council Bluffs, 13000832

Scott County

Forest Grove School No. 5, 24040 195th St., Bettendorf, 13000831

MAINE

Aroostook County

Daigle, Jean-Baptiste, House, 4 Dube St., Fort Kent, 13000833

Cumberland County

Webb, John and Maria, House, 121 Main St., Bridgton, 13000834

Hancock County

Edgecliff, 34 Norwood Ln., Southwest Harbor, 13000835

MINNESOTA

Otter Tail County

Fort Juleson, Address Restricted, Tordenskjold, 13000836

MISSOURI

Jackson County

Plaza House Apartments, (Working-Class and Middle-Income Apartment Buildings in Kansas City, Missouri MPS), 4712 Roanoke Pkwy., Kansas City, 13000837

Swinney, E.F., School, (Kansas City, Missouri School District Pre-1970 MPS), 1106 W. 47th St., Kansas City, 13000838

Polk County

First National Bank, 103 E. Broadway, Bolivar, 13000839

St. Louis Independent City

National Cash Register Company Sales and Repair Building, 1011 Olive St., St. Louis (Independent City), 13000840

UTAH

Tooele County

Lawrence Brothers and Company Store, 31 W. Main St., Ophir, 13000842

Utah County

Wilkinson, Joseph and Margaret, House, (Orem, Utah MPS), 318 South 100 West, Orem, 13000843

In the interest of preservation a request has been made to shorten the comment period to three days for the following resources:

OHIO

Cuyahoga County

Westerly Apartments, 14300 Detroit Ave., Lakewood, 13000841

[FR Doc. 2013-22994 Filed 9-20-13; 8:45 am]

BILLING CODE 4312-51-P